Title 3—

The President

Presidential Determination No. 2001-18 of June 8, 2001

Determination Under Section 405(a) of the Trade Act of 1974, as amended, Concerning the Socialist Republic of

Vietnam

Memorandum for the Secretary of State

Pursuant to the authority vested in me under the Trade Act of 1974, as amended (19 U.S.C. 2431 et seq.) (the “Trade Act”), I determine, pursuant to section 405(a) of the Trade Act (19 U.S.C. 2435(a)), that the “Agreement Between the United States of America and the Socialist Republic of Vietnam on Trade Relations” will promote the purposes of the Trade Act and is in the national interest.

You are authorized and directed to publish this determination in the Federal Register.

B

THE WHITE HOUSE,

Washington, June 8, 2001.

[FR Doc. 01-16445

Filed 6-27-01; 8:45 am]

Billing code 4710-10-M